DEPARTMENT OF AGRICULTURE

Forest Service

Atlanta Gold Project, Idaho City Ranger District, Boise National Forest, Elmore County, ID

AGENCY: Forest Service, USDA.

ACTION: Notice of intent to prepare a third-party environmental impact statement.

SUMMARY: The Idaho City Ranger District of the Boise National Forest will direct preparation of an Environmental Impact Statement (EIS), prepared by a third-party contractor, to document the analysis and disclose the potential environmental and human effects of proposed activities to develop and operate a gold-silver open-pit mine and cyanide heap leach facility. Proposed mining activities would be implemented on approximately 350 acres of patented and unpatented lands. The project area is located near Atlanta, Idaho, about 60 miles northeast of Boise, Idaho, in the Joe Daley-James subwatershed which is tributary to the Middle Fork Boise River.

DATES: The draft environmental impact statement is anticipated to be available for public review and comment in June 2004. The final environmental impact statement is anticipated to be available in October 2004.

ADDRESSES: Comments should be addressed to Richard Markley, District Ranger, Idaho City Ranger District, 3833 Highway 21, P.O. Box 129, Idaho City, ID 83631. For further information, contact Terry Hardy, Project Leader, Project Leader, by telephone at 208-373-4235 or send e-mail to thardy@fs.fed.us.

SUPPLEMENTARY INFORMATION: Proposed Action: Atlanta Gold, a wholly owned subsidiary of Twin Mining Corporation, has proposed to develop and operate a gold-silver open-pit mine and cyanide heap leach facility. As delineated by Atlanta Gold's Plan of Operation, the proposed activities encompass approximately 240 acres of unpatented land on the Idaho City Ranger District, Boise National Forest in Sections 10 and 11, T. 5 N., R. 11 E., Boise Meridian.

Conventional open-pit mining methods would occur sequentially at two locations and would involve drilling and blasting, ore haulage, waste haulage, ore crushing and placement on leach pads. The mining rate would average approximately 7,000 tons per day, and while climate may dictate temporary shutdown of mining, waste haulage is expected to occur yearlong. Heap leach and processing facilities would be designed and operated according to rules established by the State of Idaho. The facilities would be constructed to naturally flow process solution to the leach pad and include sumps to transport solution to the processing facility and to circulate solution back to the heap leach facility. Related mining activities would include an electrical power plant with diesel generators, an administration office/assay laboratory, mine maintenance and supply facilities, developing a water supply, transportation planning, waste disposal transfer site, and personnel work camp. To the extent possible, reclamation would occur simultaneously with mining. A monitoring plan would be implemented upon completion of final closure and reclamation activities to ensure site stability and success of revegetation efforts.

Mine operations are planned to occur 12 months during the year and 7 days per week, pending favorable winter season weather. The Atlanta Gold Project would employ a maximum of 100 to 130 people to operate the mine/processing facilities at any given time. Mine operations may be conducted using 2-shifts per day, however economic factors may dictate 3-shifts per day. The projects is predicted to have a 7 to 10 year mining life.

Possible Alternatives: The environmental impact statement will consider the potential effects of: the Proposed Action (as defined by the proponent's Plan of Operation); the No Action Alternative; and other alternatives which may be developed after completion of project scoping.

Lead and Cooperating Agencies: As the agency responsible for management of the unpatented lands, the Forest service will lead the preparation of the EIS. The Atlanta Gold Project will be evaluated under the Idaho Joint Review Process (IJRP). Implementing the IJFP will ensure other state and federal regulatory agencies, such as Idaho Department of Environmental Quality and U.S. Fish and Wildlife Service are involved as cooperating and/or participating agencies. The level of involvement by other state or federal entities as cooperating/participating agencies will be identified as a result of the scoping process.

Responsible Official: Richard E. Markley, District Ranger, Idaho City Ranger District, Boise National Forest is the responsible official, 3833 Highway 21, P.O. Box 129, Idaho City, ID 83631.

Nature of Decision To Be Made: Upon completion of the environmental impact statement, the Idaho City District Ranger will decide the following: (1) Approve the project's plan of operations as proposed, or (2) approve the plan of operations that has been modified as necessary to eliminate or minimize adverse effects, or meet the purpose of the regulations (modifications might incorporate additional mitigations and/or monitoring deemed necessary to comply with required permitting).

Scoping Process: The scoping process will consist of a news release announcing the start of the environmental impact statement process, an open invitation to participate in scoping meetings to be scheduled, and a scoping document which will further clarify the proposed action, additional alternatives, and identified issues. The scoping document will be distributed to selected parties and also be available upon request. The agency also hereby gives notice of the environmental analysis and decision-making process that will occur on the proposal so interested and affected Federal, State, tribal, and local agencies, as well as individuals and organizations are aware of how they may participate and contribute to the final decision. The information received will be used in preparing a final EIS.

Permits or Licenses Required: In order to implement the project, the proponent, Twin Mining Corporation, must obtain approval or conduct consultation with several other federal, state, and local regulatory agencies. These agencies include: U.S. Fish and Wildlife Service, Environmental Protection Agency, Army Corps of Engineers, Idaho Department of Environmental Quality, Idaho Department of Water Resources, Idaho State Historic Preservation Officer and Elmore County, Idaho.

Comments Requested: This notice of intent initiates the scoping process, which guides the development of the environmental impact statement. The Forest Services invites written comments and suggestions on the scope of the analysis. Initial comments should be postmarked within 30 days from the date the Environmental Protection Agency publishes this announcement in the Federal Register.

Early Notice on Importance of Public Participation in Subsequent Environmental Review: A draft environmental impact statement will be prepared. The comment period on the draft environmental impact statement will be 45 days from the date the Environmental Protection Agency publishes the notice of availability in the Federal Register.

The Forest Service believes, at this early stage, it is important to give reviewers notice of court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 days comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: July 1, 2003.
Jeff Schramm,
Acting District Ranger.

[FR Doc. 03-17168 Filed 7-9-03; 8:45 am]

BILLING CODE 3410-11-M